DEPARTMENT OF HOMELAND SECURITY

Coast Guard

[Docket No. USCG-2018-0139]

National Maritime Security Advisory Committee

AGENCY: U.S. Coast Guard, Department of Homeland Security.

ACTION: Notice of Federal Advisory Committee meeting.

SUMMARY: The National Maritime Security Advisory Committee will meet in Oakland, California, to review and discuss various issues relating to national maritime security. All meetings will be open to the public.

DATES:

Meetings. The Committee will meet on Tuesday, March 20, 2018, from 12 Noon to 5 p.m. and on Wednesday, March 21, 2018, from 8 a.m. to 1 p.m. These meetings may close early if all business is finished.

Comments and supporting documentation. To ensure your comments are reviewed by Committee members comment before the meetings, submit your written comments no later than March 12, 2018.

ADDRESSES: The meeting will be held the Port of Oakland conference room, 530 Water Street, Oakland, CA 94607. http://www.portofoakland.com/.

This meeting will be broadcast via a web enabled interactive online format and teleconference line. To participate via teleconference, contact the individual listed in the FOR FURTHER INFORMATION CONTACT section no later than March 12, 2018. Additionally, if you would like to participate in this meeting via the online web format, please log onto https://share.dhs.gov/nmsac/ and follow the online instructions to register for this meeting. If you encounter technical difficulties, contact Mr. Ryan Owens at (202) 302-6565.

For information on facilities or services for individuals with disabilities, or to request special assistance at the meetings, contact the individual listed in FOR FURTHER INFORMATION CONTACT below as soon as possible.

Written comments must be submitted using the Federal eRulemaking Portal: http://www.regulations.gov. If you encounter technical difficulties, contact the individual in the FOR FURTHER INFORMATION CONTACT section of this document.

Instructions: You are free to submit comments at any time, including orally at the meetings, but if you want Committee members to review your comment before the meetings, please submit your comments no later than March 12, 2018. We are particularly interested in comments on the issues in the “Agenda” section below. You must include “Department of Homeland Security” and the docket number [USCG-2018-0139]. Comments received will be posted without alteration at http://www.regulations.gov including any personal information provided. For more information about privacy and the docket, review the Privacy and Security Notice for the Federal Docket Management System at https://regulations.gov/privacyNotice.

Docket Search: For access to the docket or to read documents or comments related to this notice, go to http://www.regulations.gov, and use docket number “USCG-2018-0139” in the “Search” box, press Enter, and then click on the item you wish to view.

FOR FURTHER INFORMATION CONTACT: Mr. Ryan Owens, Alternate Designated Federal Officer of the National Maritime Security Advisory Committee, 2703 Martin Luther King Jr. Avenue SE, Stop 7581, Washington, DC 20593-7581; telephone 202-372-1108 or email ryan.f.owens@uscg.mil.

SUPPLEMENTARY INFORMATION: Notice of this meeting is in compliance with the Federal Advisory Committee Act, Title 5, United States Code, Appendix. The National Maritime Security Advisory Committee operates under the authority of 46 U.S.C. 70112.

The National Maritime Security Advisory Committee provides advice, consults with, and makes recommendations to the Secretary of Homeland Security, via the Commandant of the Coast Guard, on matters relating to national maritime security.

Agenda

Day 1

The Committee will meet to review, discuss and formulate recommendations on the following issues:

(1) Regulatory Reform Task. On August 24th the National Maritime Security Advisory Committee held a public meeting to discuss and begin work on a task to provide input to the U.S. Coast Guard in support of its Regulatory Reform effort (NMSAC Task T2017-01). Copies of this task statement are found in the August 24, 2017 entry under the Full Committee Meeting Minutes section of the National Maritime Security Advisory Committee's Homeport web page at https://homeport.uscg.mil/missions/maritime-security/national-maritime-security-advisory-committee-(nmsac)/full-committee-meeting-minutes.

The Committee will discuss the results of the Regulatory Reform working group and provide final recommendations to the U.S. Coast Guard.

(2) Extremely Hazardous Cargo Strategy. In July 2016, the U.S. Coast Guard tasked the Committee to work with the Chemical Transportation Advisory Committee to assist in the development of an Extremely Hazardous Cargo Strategy Implementation Plan. The Committee will discuss and receive an update from the Extremely Hazardous Cargo Working Group on their efforts.

(3) Public Comment period.

Day 2

The Committee will meet to review, discuss and formulate recommendations on the following issues:

(1) Member Report. The Committee members will each provide an update on the security developments in each of the respective member's representative segment.

(2) Cyber Security Update. Members will receive an update from the U.S. Coast Guard concerning the Release of the Cyber Security Navigation and Vessel Inspection Circular, the efforts of the U.S. Coast Guard to address and implement International Maritime Organization guidelines/resolutions for Cyber Security on Vessels, and an update on the current state of Cyber Security legislation.

(3) Public comment period.

Public comments or questions will be taken throughout the meeting as the Committee discusses the issues and prior to deliberations and voting. There will also be a public comment period at the end of each meeting.

Speakers are requested to limit their comments to 5 minutes. Please note that the public comment period may end before the period allotted, following the last call for comments. Contact the individual listed in the FOR FURTHER INFORMATION CONTACT section above to register as a speaker.

A copy of all meeting documentation will be available at https://homeport.uscg.mil/missions/maritime-security/national-maritime-security-advisory-committee-(nmsac)/full-committee-meeting-minutes by March 16, 2018.

Dated: February 21, 2018.
Jennifer F. Williams,
Captain, U.S. Coast Guard, Director of Inspections and Compliance.

[FR Doc. 2018-03912 Filed 2-26-18; 8:45 am]

BILLING CODE 9110-04-P